ENVIRONMENTAL PROTECTION AGENCY

40 CFR Parts 9 and 63

[AD-FRL-6585-5]

RIN 2060-AE86

National Emission Standards for Hazardous Air Pollutants for Polyether Polyols Production; Synthetic Organic Chemical Manufacturing Industry; Epoxy Resins Production and Non-Nylon Polyamides Production; and Petroleum Refineries

AGENCY: Environmental Protection Agency (EPA).

ACTION: Direct final rule and final rule.

SUMMARY: The EPA is taking direct final action to amend the national emission standards for hazardous air pollutants (NESHAP) for Polyether Polyols Production; Synthetic Organic Chemical Manufacturing Industry (also known as Hazardous Organic NESHAP, or HON); Epoxy Resins Production and Non-Nylon Polyamides Production; and Petroleum Refineries. For all four of these NESHAP, this direct final rule amends the definition of equipment leaks to add the term “connectors” to the list of equipment that is subject to the equipment leak provisions in those NESHAP.

The remainder of this direct final rule corrects referencing errors and several equations which contained printing errors in the final NESHAP for Polyether Polyols Production (hereafter referred to as “subpart PPP”). This direct final rule amends the description of a process change and the description of excess emissions; the requirements pertaining to submission of a request for extension of a compliance date; the storage vessel monitoring requirements; the definition of the terms epoxide, polyether polyol, and Group 2 wastewater stream; the conditions required during performance testing for batch process vents; which compounds are considered to be organic hazardous air pollutants (HAPs) for the purposes of both the maintenance wastewater and the process wastewater requirements; the information requirements for start-up, shutdown, and malfunction reports; the dates on which initial notifications are due; and the reporting requirements for other reports to clarify those requirements.

In addition to the direct final rule, in compliance with the Paperwork Reduction Act (PRA), EPA is amending as a final rule the Office of Management and Budget (OMB) approval table to list the OMB control number issued under the PRA for information collection requirements for subpart PPP.

DATES: The amendments to 40 CFR part 9 are effective on May 8, 2000. The direct final rule amendments to 40 CFR part 63 are effective on July 7, 2000 without further notice, unless the EPA receives adverse comments by June 7, 2000, or by June 22, 2000 if a public hearing is requested. See the proposed rule in this issue of the Federal Register for information on the hearing. If we receive such comments, and those comments apply to an amendment, paragraph, or section of this rule, and that provision may be addressed separately from the remainder of the rule, we will withdraw only those provisions on which we received adverse comments. We will publish a timely withdrawal in the Federal Register indicating which provisions will become effective on July 7, 2000 and which provisions are being withdrawn.

ADDRESSES: Comments. Written comments should be submitted (in duplicate, if possible) to: Air and Radiation Docket and Information Center (6102), Attention Docket numbers A-90-20, A-92-37, A-93-48, and/or A-96-38 (see docket section below), Room M-1500, U.S. Environmental Protection Agency, 401 M Street, SW, Washington, DC 20460. The EPA requests that a separate copy also be sent to the contact person listed below. Docket. Docket numbers A-90-20 and (the HON); A-92-37 (Epoxy Resins Production and Non-Nylon Polyamides Production); A-93-48 (Petroleum Refineries); and A-96-38 (Polyether Polyols Production) contain supporting information used in developing the standards. The dockets are located at the U.S. Environmental Protection Agency, 401 M Street SW, Washington, DC 20460, in room M-1500, Waterside Mall (ground floor), and may be inspected from 8:30 a.m. to 5:30 p.m., Monday through Friday, excluding legal holidays.

FOR FURTHER INFORMATION CONTACT: Mr. Robert E. Rosensteel, Organic Chemicals Group, Emission Standards Division (MD-13), Office of Air Quality Planning and Standards, U.S. EPA, Research Triangle Park, NC 27711, telephone number (919) 541-5608, electronic mail address: rosensteel.bob@epa.gov.

SUPPLEMENTARY INFORMATION:

Docket. The docket is an organized and complete file of all the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the Clean Air Act (CAA).) An index for each docket, as well as individual items contained within the dockets, may be obtained by calling (202) 260-7548 or (202) 260-7549. A reasonable fee may be charged for copying docket materials. Docket indexes are also available by facsimile, as described on the Office of Air and Radiation, Docket and Information Center Website at http://www.epa.gov/airprogm/oar/docket/faxlist.html. Comments. Comments and data may be submitted by electronic mail (e-mail) to: a-and-r-docket@epa.gov. Electronic comments must be submitted as an ASCII file to avoid the use of special characters and encryption problems and will also be accepted on disks in WordPerfect® version 5.1, 6.1 or Corel 8 file format. All comments and data submitted in electronic form must note the docket numbers A-90-20, A-92-37, A-93-48, and/or A-96-38. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: Attention: Ms. Melva Toomer, U.S. EPA, OAQPS Document Control Officer, 411 W. Chapel Hill Street, Room 944, Durham, NC 27711. The EPA will disclose information identified as CBI only to the extent allowed by the procedures set forth in 40 CFR part 2. If no claim of confidentiality accompanies a submission when it is received by the EPA, the information may be made available to the public without further notice to the commenter. World Wide Web. In addition to being available in the docket, an electronic copy of this action is also available through the World Wide Web (WWW). Following signature, a copy of this action will be posted on the EPA's Technology Transfer Network (TTN) policy and guidance page for newly proposed or promulgated rules at http://www.epa.gov/ttn/oarpg. The TTN at EPA's web site provides information and technology exchange in various areas of air pollution control. If more information regarding the TTN is needed, call the TTN HELP line at (919) 541-5384.

Regulated Entities

Categories and entities potentially affected by this action include:

Category | Standard Industrial Classification (SIC) codes | North American Industrial Classification System (NAICS) codes | Examples of regulated entities
Industry | 2865 and 2869 | 325110, 325188, 325192, 325193, 325199, and 325120 | Synthetic organic chemical manufacturing industry (SOCMI) units (e.g.,producers of benzene, toluene, or any other chemical listed in table 1 of 40 CFR part 63, subpart F).
Industry | 2821 | 325211 | Epoxy resins and non-nylon polyamide resins.
Industry | 2911 | 324110 | Petroleum refineries.
Industry | 2843 and 2869 | 325199 and 325613 | Producers of polyether polyols and polyether monools.

This table is not intended to be exhaustive, but rather provides a guide for readers likely to be interested in the revisions to the regulations affected by these rules. To determine whether your facility is regulated by these rules, you should carefully examine all of the applicability criteria in 40 CFR part 63, subparts F, W, CC, and PPP. If you have any questions regarding the applicability of these amendments to a particular entity, consult the person listed in the preceding FOR FURTHER INFORMATION CONTACT section.

Judicial Review. Under section 307(b)(1) of the CAA, judicial review of this direct final rule is available by filing a petition for review in the U.S. Court of Appeals for the District of Columbia Circuit by September 5, 2000. Under section 307(b)(2) of the CAA, the requirements that are the subject of this direct final rule may not be challenged later in civil or criminal proceedings brought by the EPA to enforce these requirements.

Also under section 307(b)(1) of the CAA, judicial review of the final rule amendment to part 9 in this action is available by filing a petition for review in the U.S. Court of Appeals for the District of Columbia Circuit by July 7, 2000. Under section 307(b)(2) of the CAA, the requirements that are the subject of this final rule may not be challenged later in civil or criminal proceedings brought by the EPA to enforce these requirements.

I. Why Are We Publishing These Amendments as a Direct Final Rule?

In the direct final rule portion of this action, we are correcting printing and referencing errors. We are also revising and slightly reorganizing certain paragraphs, and we are making minor amendments to certain definitions. These changes provide clarification on a variety of provisions ranging from applicability to recordkeeping. In all instances, we believe that these changes have the potential to reduce the burden on both owners and operators of affected sources and on the State or local agency implementing the rule, although we are unable to quantify reductions in hours for these amendments. For these reasons, we view these amendments as noncontroversial and anticipate no adverse comments, and we are publishing these amendments in a direct final rule.

If an adverse comment applies to an amendment, paragraph, or section of this direct final rule, and that provision may be addressed separately from the remainder of the rule, we will withdraw only those provisions on which we received adverse comments. In the “Proposed Rules” section of this Federal Register, we are publishing a separate document that will serve as the proposal for any provisions in this direct final rule on which we receive adverse comments. The EPA will publish a timely withdrawal in the Federal Register indicating which provisions will become effective and which provisions are being withdrawn. If part or all of this direct final rule is withdrawn, all public comments received will be addressed in a subsequent final rule based on the proposal in the “Proposed Rules” section of this Federal Register. We will not institute a second comment period on the subsequent final rule. Any parties interested in commenting must do so at this time. The nature of the changes contained in this direct final rule are such that it will benefit both industry and the States for these changes to become effective sooner, rather than later, as will be described in more detail below.

II. What Amendments Are We Making To Reflect OMB Approval of the Information Collection Request (ICR) for the NESHAP for Polyether Polyols Production?

This final rule amends the table of currently approved Information Collection Request (ICR) control numbers issued by OMB. This final rule updates the table to list those information requirements promulgated under the NESHAP for Polyether Polyols Production, which appeared in the Federal Register on June 1, 1999 (64 FR 29420). The affected regulations are codified at 40 CFR part 63, subpart PPP. We will continue to present OMB control numbers in a consolidated table format to be codified in 40 CFR part 9 of the Agency's regulations and in each CFR volume containing EPA regulations. The table lists the section numbers with reporting and recordkeeping requirements and the current OMB control numbers. This listing of the OMB control numbers and their subsequent codification in the CFR satisfy the requirements of the Paperwork Reduction Act and OMB's implementing regulations at 5 CFR part 1320. The ICR itself was subject to public notice and comment prior to OMB's approval of the ICR. Further, because amendment of the table in part 9 is technical in nature, we believe that another notice and comment period for this amendment is unnecessary. For these reasons, we believe that there is good cause under the Administrative Procedure Act (5 U.S.C. § 553(b) to amend this table without prior notice and comment.

III. What Amendments Are We Making to the Equipment Leak Definition That Affect Subparts F, W, CC, and PPP?

In these rules, we are amending the definition of equipment leak in subparts F, W, CC, and PPP of 40 CFR part 63. In each of these NESHAP, the definition of equipment leak listed several sources from which emissions of organic HAP constitute a leak. However, “connectors” are not included in the list of sources of emissions that are included in the definition of the term equipment leak in any of those NESHAP.

Affected sources subject to any of those four subparts are required to comply with the NESHAP for equipment leaks (40 CFR part 63, subpart H). In subpart H, § 63.169 contains standards for pumps, valves, connectors, and agitators in heavy liquid service; instrumentation systems; and pressure relief devices in liquid service. Section 63.174 (of 40 CFR part 63, subpart H) contains standards for connectors in gas/vapor service and in light liquid service. The fact that there are specific provisions in subpart H applicable to connectors clearly demonstrates that we always intended emissions from connectors to be considered equipment leaks. In addition, the definition of equipment in § 63.161 of subpart H includes connectors, providing further evidence that the definition of equipment leak should include connectors. Therefore, we are amending the definition of equipment leak in subparts F, W, CC, and PPP by adding the term “a connector” to the list of equipment in each of those definitions.

IV. What Amendments Are We Making to Subpart PPP?

Although this action amends portions of four separate subparts of 40 CFR part 63 (i.e., subparts F, W, CC, and PPP), the primary focus of the amendments in this action is subpart PPP, which was promulgated on June 1, 1999 (64 FR 29420). This direct final rule contains amendments and technical corrections to the requirements in subpart PPP.

Several equations in the promulgated version of subpart PPP were printed incorrectly. This direct final rule amends the erroneous symbols in equations numbered 1, 2, 4, 5, 7, 10, and 13, to produce the originally intended equations.

This direct final rule also corrects references in several sections of subpart PPP. References are being corrected in this direct final rule in the following paragraphs: § 63.1422(b); § 63.1426(d)(3)(ii); § 63.1428(g)(3)(i); § 63.1430(e)(1)(vi) and (vii); § 63.1432(h) and (l); § 63.1433(a)(5), (7), and (8); § 63.1435(c); § 63.1439(e)(5)(iv) and (e)(7)(ii), and in the definition of Group 2 wastewater stream.

Two terms which are used in subpart PPP but were not defined in the final rule were added to the list in § 63.1423(a) that incorporates the definitions from other subparts. Specifically, oil-water separator or organic-water separator and responsible official were added to the list and their definitions in subparts G and A, respectively, were referenced.

In addition, the June 1, 1999 final rule contained references to 40 CFR part 63, subpart I in both §§ 63.1422(h) and 63.1434(c). This was an error because subpart I does not apply to polyether polyols producers. Therefore, both §§ 63.1422(h) and 63.1434(c) are removed and reserved in this direct final rule.

The provisions in § 63.1420(g) specify how changes or additions to plant sites impact whether an affected source is a new affected source or an existing affected source. Paragraph (g)(2) in § 63.1420 addresses adding emission points or making process changes to an existing affected source. The provisions in § 63.1420(g)(2)(i) specify that a process change or addition to an existing affected source that meets the definition of reconstruction and that occurred after September 4, 1997 causes the entire affected source to become a new affected source. After promulgation of subpart PPP, we realized that these provisions were not consistent with our reconstruction policy for 40 CFR part 63 standards, which is contained in the general provisions for part 63 (40 CFR part 63, subpart A). The general provisions clearly distinguish between “replacements” and “additions.” The definition of reconstruction in the general provisions only addresses the “replacement” of equipment, while § 63.5(b)(6) of the general provisions addresses additions. At promulgation, these two concepts were combined in the language for § 63.1420(g)(2)(i), creating confusion and making the subpart PPP requirements inconsistent with the our general policy on “replacements” and “additions.” Therefore, in this direct final rule we are revising the provisions in § 63.1420(g)(2) to clearly distinguish how the replacement of components should be handled by owners and operators, and how the addition of new components should be handled, with respect to applicability to the new or existing source requirements. In summary, if the replacement of components at an existing affected source meets the definition of reconstruction, then the affected source becomes a new affected source. If an addition is made to an existing affected source, then the addition becomes part of the existing affected source.

Paragraph (g)(3) in § 63.1420 describes how to distinguish a process change from a change that is not considered to be a “process change,” according to the 40 CFR part 63, subpart PPP requirements. We are amending § 63.1420(g)(3) by removing the last phrase (which referred to the equipment configuration and operating conditions documented in the notification of compliance status report required by § 63.1439(e)(5)), because not all equipment configurations and operating conditions are required to be reported in the notification of compliance status report. The phrase that was removed implied that unless a configuration or condition was described in the notification of compliance status report, equipment in that configuration or condition would automatically be considered to be a “process change.” It was not our intent that every possible equipment configuration or condition be described in the notification of compliance status report. In addition, the phrase “changes that are not within the equipment configuration” was replaced with the phrase “changes that do not alter the equipment configuration,” for reasons similar to those described above.

Paragraph (h) in § 63.1420 addresses the applicability of subpart PPP during periods of start-up, shutdown, malfunction, or nonoperation. Paragraph (h)(1) in § 63.1420 specifies that the emission limitations in subpart PPP do not apply during these periods. However, paragraphs § 63.1420(h)(3) and (4) contain requirements specific to periods of start-up, shutdown, and malfunction. Therefore, paragraph § 63.1420(h)(1) in the direct final rule has been amended to indicate that the emission limitations in the subpart do not apply during periods of start-up, shutdown, or malfunction, except as provided in § 63.1420(h)(3) and (4).

Also, § 63.1420(h)(4) requires that you must prevent or minimize excess emissions during periods of start-up, shutdown, and malfunction, and provides a description of what constitutes “excess emissions.” In these direct final amendments, we are changing this description from “emissions in excess of those that would have occurred if there were no start-up, shutdown, or malfunction,” to “emissions greater than those allowed by the emission limitation which would apply during operational periods other than start-up, shutdown, and malfunction.” We are making this change because we believe that the new wording is more consistent with our original intent, which was that owners or operators take steps to minimize emissions during start-up, shutdown, and malfunction. Further, we believe the revision in this direct final rule is clearer and more specific than the promulgated language.

Paragraph (e) of § 63.1422 includes the provisions for requesting a compliance extension. In the promulgated rule, this paragraph stated that a request for compliance must be submitted no later than 120 days prior to the compliance dates specified in paragraphs (b) through (d) of § 63.1422. However, there are compliance dates specified in other paragraphs of subpart PPP. For instance, § 63.1420(g)(2)(i) of this direct final requires that new emission points comply with the existing source requirements by 120 days after the day of initial start-up. We intended that the compliance extension provisions in § 63.1422(e) apply to these other compliance dates, as well as to the compliance dates in § 63.1420(b) through (d). Therefore, this direct final rule adds a phrase to make it clear that you can request a compliance extension for compliance dates that are specified in sections of subpart PPP other than § 63.1420(b) through (d).

The promulgated definition of epoxide in subpart PPP includes a description of what an epoxide is (i.e., a chemical compound consisting of a three-membered cyclic ether). The definition also states that only emissions of ethylene oxide and propylene oxide are regulated under subpart PPP. After promulgation of subpart PPP, we became aware of another epoxide, “epichlorohydrin,” that is used to make polyether polyols. Under the promulgated definition of epoxide, emissions of epichlorohydrin would be exempt from control. This is inconsistent with section 112(b), (c), and (d) of the CAA. Therefore, we have added epichlorohydrin to Table 4 (Known Organic HAP from Polyether Polyols Products) and have amended the definition of epoxide to include epichlorohydrin in the list of epoxides that are subject to the provisions of subpart PPP.

In the promulgated NESHAP, the definition of polyether polyol excludes hydroxyethyl cellulose. At the time of promulgation of subpart PPP, we intended that this product, which meets the basic criteria of a polyether polyol, would be covered by the Miscellaneous Cellulose NESHAP, which we are currently developing. However, in the development of the Miscellaneous Cellulose NESHAP, we have become aware of other cellulose ether products that meet the definition of polyether polyol. Therefore, in this direct final rule we have revised the definition of polyether polyol to exclude the entire family of cellulose ethers, not just hydroxyethyl cellulose.

The promulgated version of subpart PPP requires compliance with the HON requirements for storage vessels, with the exceptions listed in § 63.1432. Section 63.1432 requires that records of all times when the storage tank is being filled be kept, in addition to the records required in § 63.123 of the HON. In this direct final rule, we are making clarifications to the rule at § 63.1432(q). Our intent was that the requirement to keep records of times when the storage vessel is being filled should only apply to storage vessels using a combustion, recovery, or recapture device, where the applicable monitoring plan does not specify continuous monitoring. The amended language in § 63.1432(q) should make this distinction clear.

For the purposes of both the maintenance wastewater and the process wastewater requirements in subpart PPP, we are amending § 63.1433(a)(1) and (2) and (b)(1), in order to clarify which compounds are considered “organic HAP.” The language in § 63.1433(a)(1) is inadequate, while the language in § 63.1433(a)(2) and § 63.1433(b)(1) is unnecessarily complicated and difficult to interpret. The amendments in this direct final rule should make those requirements much easier to follow.

This direct final rule also clarifies the conditions required during performance testing for process vents from batch unit operations. Section 63.1426, paragraph (c)(3)(i)(B), which contains requirements specific to process vents from batch unit operations, states that performance testing may be conducted during either absolute worst-case conditions or hypothetical worst-case conditions. However, § 63.1437(a)(1) which contains general performance testing requirements for all emission sources, lists only absolute worst-case conditions as an option for performance testing at process vents from batch unit operations. This direct final rule corrects § 63.1437(a)(1) by revising that paragraph to state that performance testing at both absolute and hypothetical worst-case conditions is acceptable for process vents from batch unit operations.

Additionally, this direct final rule amends the information requirements associated with start-up, shutdown, and malfunction reports in § 63.1439(b)(1)(ii). The promulgated NESHAP requires the start-up, shutdown, and malfunction report to include all of the information recorded under § 63.1439(b)(1)(i)(A) through (B), and to contain the name, title, and signature of the owner or operator, or other responsible official certifying the report's accuracy. However, this is a good deal more information than is required to be specified in the general provisions in § 63.10(d)(5)(i). We have decided that as long as the information recorded under § 63.1439(b)(1)(i)(A) through (B) is recorded, that information need not be submitted to the Administrator. Therefore, this direct final rule references the start-up, shutdown, and malfunction reporting requirements in § 63.10(d)(5)(i) and no longer includes such a long list of information to report under § 63.1439(b)(1)(ii).

This direct final rule also removes the requirement that existing sources submit an Initial Notification report. The promulgated rule lists two separate due dates in different sections of the rule for the Initial Notification report. Section 63.1439, paragraph (e)(3)(ii)(A), states that the due date for the Initial Notification report for existing sources is June 1, 2000, but Table 8 shows the date as 120 days after June 1, 1999. Neither of those two dates is appropriate, in that the first date is too soon after promulgation of subpart PPP, while the other date is too late, since it was after the due date of the Notification of Compliance Status report for equipment leaks (April 29, 2000, or 150 days after the December 1, 1999 compliance date). To be useful, the Administrator (or the delegated authorities) needs to receive the Initial Notification report with sufficient time to prepare for receipt of the Notification of Compliance Status reports. Since this direct final rule will not take effect until after the date that the Notification of Compliance Status report for equipment leaks is due for existing sources, we do not believe that the submittal of an Initial Notification report is beneficial. Therefore, we have removed all requirements related to the Initial Notification report for existing sources. The specific changes are to § 63.1439(e)(3) and Table 8 of subpart PPP.

This direct final rule also inserts some introductory language pertinent to the other reports that are due in § 63.1439(e)(7) and reorganizes and renumbers the subsections of that paragraph. We are amending Table 1 of subpart PPP to clarify that although § 63.10(d)(5)(i) from the general provisions applies to subpart PPP affected sources, § 63.10(d)(5)(ii) (which requires immediate start-up, shutdown, or malfunction reports) does not.

V. What Are the Administrative Requirements for These Rules?

A. Executive Order 12866

Under Executive Order 12866 (58 FR 51735, October 4, 1993), the EPA must determine whether the regulatory action is “significant” and therefore subject to OMB review and the requirements of the Executive Order. The Executive Order defines “significant regulatory action” as one that is likely to result in a rule that may:

(1) Have an annual effect on the economy of $100 million or more or adversely affect in a material way the economy, productivity, competition, jobs, the environment, public health or safety, or state, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Pursuant to the terms of Executive Order 12866, it has been determined that these amendments are not a “significant regulatory action” because they do not meet any of the above criteria. Consequently, these rules were not submitted to OMB for review under Executive Order 12866.

B. Executive Order 13132

Executive Order 13132, entitled “Federalism” (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under section 6 of Executive Order 13132, EPA may not issue a regulation that has federalism implications, that imposes substantial direct compliance costs, and that is not required by statute, unless the Federal government provides the funds necessary to pay the direct compliance costs incurred by State and local governments, or EPA consults with State and local officials early in the process of developing the regulation. The EPA also may not issue a regulation that has federalism implications and that preempts State law unless the Agency consults with State and local officials early in the process of developing the regulation.

This direct final rule does not have federalism implications. It will not have substantial direct effects on the States, on the relationship between the national government and the States, or on the distribution of power and responsibilities among the various levels of government, as specified in Executive Order 13132. Thus, the requirements of section 6 of Executive Order 13132 do not apply to this direct final rule.

C. Executive Order 13084

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.” These rules do not significantly or uniquely affect the communities of Indian tribal governments. No tribal governments own or operate an affected source. Accordingly, the requirements of section 3(b) of Executive Order 13084 do not apply to these rules.

D. Executive Order 13045

Executive Order 13045 (62 FR 19885, April 23, 1997), applies to any rule that: (1) Is determined to be “economically significant” as defined under Executive Order 12866, and (2) concerns an environmental health or safety risk that the EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Order has the potential to influence the regulation. These rules fall into that category only in part: the minimum rule stringency for subpart PPP is set according to a congressionally-mandated, technology-based lower limit called the “floor,” while a decision to increase the stringency beyond this floor can be based on risk considerations. Thus, Executive Order 13045 applies to these rules only to the extent that the Agency may consider the inherent toxicity of a regulated pollutant, and any differential impact such a pollutant may have on children's health, in deciding whether to adopt control requirements more stringent than the floor level in subpart PPP.

These rules are not subject to Executive Order 13045 because they are not economically significant as defined in Executive Order 12866. No children's risk analysis was performed for these rules because no alternative technologies exist that would provide greater stringency at a reasonable cost. Therefore, the results of any such analysis would have no impact on the stringency decision.

E. Unfunded Mandates Reform Act

Title II of the Unfunded Mandates Reform Act of 1995 (UMRA), Pub. L. 104-4, establishes requirements for Federal agencies to assess the effects of their regulatory actions on State, local, and tribal governments and the private sector. Under section 202 of the UMRA, the EPA generally must prepare a written statement, including a cost-benefit analysis, for proposed and final rules with “Federal mandates” that may result in expenditures to State, local, and tribal governments, in the aggregate, or by the private sector, of $100 million or more in any 1 year. Before promulgating an EPA rule for which a written statement is needed, section 205 of the UMRA generally requires the EPA to identify and consider a reasonable number of regulatory alternatives and adopt the least costly, most cost-effective, or least-burdensome alternative that achieves the objectives of the rule. The provisions of section 205 do not apply when they are inconsistent with applicable law. Moreover, section 205 allows the EPA to adopt an alternative other than the least-costly, most cost-effective, or least-burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that these rules do not contain a Federal mandate that may result in expenditures of $100 million or more for State, local, and tribal governments, in the aggregate, or in the private sector in any 1 year. Thus, today's rules are not subject to the requirements of sections 202 and 205 of the UMRA. In addition, the EPA has determined that these rules contain no regulatory requirements that might significantly or uniquely affect small governments, because they contain no requirements that apply to such governments or impose obligations on them. Therefore, today's rules are not subject to the requirements of section 203 of the UMRA.

F. Regulatory Flexibility Act (RFA), as Amended by the Small Business Regulatory Enforcement Fairness Act of 1996 (SBREFA), 5 USC 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this direct final on small entities, small entity is defined as : (1) A small business that has less than 750 employees and is unaffiliated with a larger domestic entity; (2) a small governmental jurisdiction that is a government of a city, county, town, school district or special district with a population of less than 50,000; and (3) a small organization that is any not-for-profit enterprise which is independently owned and operated and is not dominant in its field.

After considering the economic impacts of these rules on small entities, we have concluded that these actions will not have a significant economic impact on a substantial number of small entities. Consistent with Small Business Administrative (SBA) size standards, a polyether polyols production facility is classified as a small entity if it has less than 750 employees and is unaffiliated with a larger domestic entity. On that basis, 7 of the 36 polyether polyol production facilities are classified as small entities (i.e., having fewer than 750 employees). The EPA determined that none of these seven small entities will experience an increase in costs that is greater than one percent of revenues, as a result of these rules. This does not qualify as a significant economic impact on a substantial number of small businesses.

G. Paperwork Reduction Act

The information collection requirements in the final rule were submitted for approval to OMB under the Paperwork Reduction Act, 44 U.S.C. 3501 et seq. An Information Collection Request (ICR) document has been prepared by EPA (ICR No. 1811.01), but, at promulgation, that ICR had not yet been approved by OMB. However, since promulgation the OMB has approved the ICR, and this final rule amends the table of currently approved ICR control numbers issued by OMB and updates the table to accurately display those information requirements not previously approved. The information collection requirements that are made effective by this action under OMB control number 2060-0415 were contained in ICR number 1811.01.

Today's final rule will have no impact on the information collection burden estimates made previously. The direct final amendments clarify the intent of the subpart PPP and correct inadvertent omissions and minor drafting errors. Consequently, the ICR has not been revised.

H. National Technology Transfer and Advancement Act

Section 12(d) of the National Technology Transfer and Advancement Act of 1995 (NTTAA), Pub. L. 104-113, (15 U.S.C. 272 note), directs all Federal agencies to use voluntary consensus standards instead of government-unique standards in their regulatory activities unless to do so would be inconsistent with applicable law or would be otherwise impractical. Voluntary consensus standards are technical standards (e.g., material specifications, test method, sampling and analytical procedures, business practices, etc.) that are developed or adopted by one or more voluntary consensus standards bodies. Examples of organizations generally regarded as voluntary consensus standards bodies include the American Society for Testing and Materials (ASTM), the National Fire Protection Association (NFPA), and the Society of Automotive Engineers (SAE). The NTTAA requires Federal agencies like EPA to provide Congress, through OMB, with explanations when the Agency decides not to use available and applicable voluntary consensus standards.

During the rulemaking, the Agency searched for voluntary consensus standards that might be applicable. The search has identified no applicable voluntary standards. Accordingly, the NTTAA requirement to use applicable voluntary consensus standards does not apply to these rules.

I. The Congressional Review Act

The Congressional Review Act, 5 U.S.C. § 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. § 804(2). This rule will be effective July 7, 2000.

List of Subjects

40 CFR Part 9

Environmental protection, Reporting and recordkeeping requirements.

40 CFR Part 63

Environmental protection, Hazardous substances, Intergovernmental relations, Reporting and recordkeeping requirements, Administrative practice and procedure, Air pollution control.

Dated: April 20, 2000.
Carol M. Browner,
Administrator,

For the reasons set out in the preamble, parts 9 and 63 of title 40, chapter I of the Code of Federal Regulations are amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. Section 9.1 is amended by adding a new entry to the table in numerical order to read as follows:

§ 9.1 OMB approvals under the Paperwork Reduction Act.

* * * * *

40 CFR citation | OMB control no.
* * * * *
National Emission Standards for Hazardous Air Pollutants for Source Categories ³
* * * * *
63.1420-63.1439 | 2060-0415
³ The ICRs referenced in this section of the table encompass the applicable general provisions contained in 40 CFR part 63, subpart A, which are not independent information collection requirements.

* * * * *

PART 63—[AMENDED]

3. The authority citation for part 63 continues to read as follows:

Authority: 42 U.S.C. 7401, et seq.

* * * * *

Subpart F—[AMENDED]

* * * * *

4. Section 63.101 is amended by revising the definition of equipment leak, to read as follows:

§ 63.101 Definitions.

* * * * *

Equipment leak means emissions of organic hazardous air pollutants from a connector, pump, compressor, agitator, pressure relief device, sampling connection system, open-ended valve or line, valve, surge control vessel, bottoms receiver, or instrumentation system in organic hazardous air pollutant service as defined in § 63.161.

* * * * *

Subpart W—[AMENDED]

5. Section 63.522 is amended by revising the definition of equipment leaks, to read as follows:

§ 63.522 Definitions.

* * * * *

Equipment leaks means emissions of hazardous air pollutants from a connector, pump, compressor, agitator, pressure relief device, sampling connection system, open-ended valve or line, or instrumentation system in organic hazardous air pollutant service.

* * * * *

Subpart CC—[AMENDED]

6. Section 63.641 is amended by revising the definition of equipment leak, to read as follows:

§ 63.641 Definitions.

* * * * *

Equipment leak means emissions of organic hazardous air pollutants from a connector, pump, compressor, pressure relief device, sampling connection system, open-ended valve or line, valve, or instrumentation system in organic hazardous air pollutant service as defined in this section. Vents from wastewater collection and conveyance systems (including, but not limited to wastewater drains, sewer vents, and sump drains), tank mixers, and sample valves on storage tanks are not equipment leaks.

* * * * *

Subpart PPP—[AMENDED]

* * * * *

7. Section 63.1420 is amended by:

a. Revising paragraph (e)(3) introductory text;

b. Revising paragraph (e)(9);

c. Revising paragraph (g)(1)(i) introductory text;

d. Revising paragraph (g)(2) introductory text;

e. Revising paragraph (g)(2)(i) introductory text;

f. Revising paragraph (g)(2)(i)(A);

g. Revising paragraph (g)(2)(ii);

h. Adding paragraph (g)(2)(iii);

i. Revising paragraph (g)(3);

j. Revising paragraph (g)(4);

k. Revising paragraph (h)(1); and

l. Revising paragraph (h)(4).

The revisions and additions read as follows:

§ 63.1420 Applicability and designation of affected sources.

* * * * *

(e) * * *

(3) Annual applicability determination for non-PMPUs that have produced a polyether polyol. Once per year beginning June 1, 2004, the owner or operator of each flexible operation unit that is not designated as a PMPU, but that has produced a polyether polyol at any time in the preceding 5-year period or since the date that the unit began production of any product, whichever is shorter, shall perform the evaluation described in paragraphs (e)(3)(i) through (iii) of this section. However, an owner or operator that does not intend to produce any elastomer product in the future, in accordance with paragraph (e)(9) of this section, is not required to perform the evaluation described in paragraphs (e)(3)(i) through (iii) of this section.

* * * * *

(9) PMPUs terminating production of all polyether polyols. If a PMPU terminates the production of all polyether polyols, and the owner or operator does not anticipate the production of any polyether polyols in the future in that PMPU, the process unit is no longer a PMPU and is not subject to this subpart after notification is made to the Administrator. This notification shall be accompanied by a rationale for why it is anticipated that no polyether polyols will be produced in the process unit in the future.

* * * * *

(g) * * *

(1) * * *

(i) If a group of one or more PMPUs is added to a plant site, the added group of one or more PMPUs and their associated equipment, as listed in paragraph (a)(4) of this section, shall be a new affected source and shall comply with the requirements for a new affected source in this subpart upon initial start-up or by June 1, 1999, whichever is later, if the added group of one or more PMPUs meets the criteria specified in paragraph (g)(1)(i)(A) of this section and either meets the criteria in paragraph (g)(1)(i)(B) or (C) of this section.

* * * * *

(2) Adding emission points or making process changes to existing affected sources. The provisions of paragraphs (g)(2)(i), (ii), and (iii) of this section apply to the owner or operator that adds emission points or makes process changes to an existing affected source.

(i) If any components are replaced at an existing affected source such that the criteria specified in paragraphs (g)(2)(i)(A) and (B) of this section are met, the entire affected source shall be a new affected source and shall comply with the requirements for a new affected source upon initial start-up or by June 1, 1999, whichever is later.

(A) The replacement of components meets the definition of reconstruction in § 63.1423(b). For purposes of determining whether the fixed capital cost of the new components exceeds 50 percent of the fixed capital cost that would be required to construct an entire affected source, the equivalent capital cost shall be the entire potentially affected source; and

* * * * *

(ii) If any components are replaced at an existing affected source such that the criteria specified in paragraphs (g)(2)(i)(A) and (B) of this section are not met and that replacement of components creates one or more emission points (i.e., either newly created Group 1 emission points or emission points that change from Group 2 to Group 1) or causes any other emission point to be added (i.e., Group 2 emission points, heat exchange systems subject to § 63.1435, or equipment leak components subject § 63.1434), the resulting emission point(s) shall be subject to the applicable requirements for an existing affected source. The resulting emission point(s) shall be in compliance upon initial start-up or by the appropriate compliance date specified in § 63.1422 (i.e., December 1, 1999 for most equipment leak components subject to § 63.1434, and June 1, 2002 for emission points other than equipment leaks), whichever is later.

(iii) If an addition or process change (not including a process change that solely replaces components) is made that creates one or more Group 1 emission points (i.e., either newly created Group 1 emission points or emission points that change group status from Group 2 to Group 1) or causes any other emission point to be added (i.e., Group 2 emission points, heat exchange systems subject to § 63.1435, or equipment leak components subject to § 63.1434), the resulting emission point(s) shall be subject to the applicable requirements for an existing affected source. The resulting emission point(s) shall be in compliance by initial start-up or by the appropriate compliance date specified in § 63.1422 (i.e., December 1, 1999 for most equipment leak components subject to § 63.1434, and June 1, 2002 for emission points other than equipment leaks), whichever is later.

(3) Determining what are and are not process changes. For purposes of paragraph (g) of this section, examples of process changes include, but are not limited to, additions in process equipment resulting in changes in production capacity; production of a product outside the scope of the compliance demonstration; or whenever there is a replacement, removal, or addition of recovery equipment. For purposes of paragraph (g) of this section, process changes do not include: process upsets, unintentional temporary process changes, and changes that do not alter the equipment configuration and operating conditions.

(4) Reporting requirements for owners or operators that change or add to their plant site or affected source. An owner or operator that changes or adds to their plant site or affected source, as discussed in paragraphs (g)(1) and (g)(2) of this section, shall submit a report as specified in § 63.1439(e)(7)(iii).

(h) * * *

(1) The emission limitations set forth in this subpart and the emission limitations referred to in this subpart shall apply at all times except during periods of nonoperation of the affected source (or specific portion thereof) resulting in cessation of the emissions to which this subpart applies. These emission limitations shall not apply during periods of start-up, shutdown, or malfunction, except as provided in paragraphs (h)(3) and (4) of this section. During periods of start-up, shutdown, or malfunction, the owner or operator shall follow the applicable provisions of the start-up, shutdown, and malfunction plan required by § 63.6(e)(3). However, if a start-up, shutdown, malfunction, or period of nonoperation of one portion of an affected source does not affect the ability of a particular emission point to comply with the emission limitations to which it is subject, then that emission point shall still be required to comply with the applicable emission limitations of this subpart during the start-up, shutdown, malfunction, or period of nonoperation. For example, if there is an overpressure in the reactor area, a storage vessel that is part of the affected source would still be required to be controlled in accordance with the storage tank provisions in § 63.1432. Similarly, the degassing of a storage vessel would not affect the ability of a process vent to meet the emission limitations for process vents in §§ 63.1425 through 63.1430.

* * * * *

(4) During start-ups, shutdowns, and malfunctions when the emission limitations of this subpart do not apply pursuant to paragraphs (h)(1) through (3) of this section, the owner or operator shall implement, to the extent reasonably available, measures to prevent or minimize excess emissions to the extent practical. For purposes of this paragraph, the term “excess emissions” means emissions greater than those allowed by the emissions limitation which would apply during operational periods other than start-up, shutdown, and malfunction. The measures to be taken shall be identified in the applicable start-up, shutdown, and malfunction plan, and may include, but are not limited to, air pollution control technologies, recovery technologies, work practices, pollution prevention, monitoring, and/or changes in the manner of operation of the affected source. Use of back-up control techniques is not required, but is allowed, if available.

* * * * *

8. Section 63.1422 is amended by revising paragraph (b), by revising paragraph (e) introductory text, and removing and reserving paragraph (h) as follows:

§ 63.1422 Compliance dates and relationship of this rule to existing applicable rules.

* * * * *

(b) New affected sources that commence construction or reconstruction after September 4, 1997 shall be in compliance with this subpart upon initial start-up or by June 1, 1999, whichever is later.

* * * * *

(e) Pursuant to section 112(i)(3)(B) of the Act, an owner or operator may request an extension allowing the existing affected source up to 1 additional year to comply with section 112(d) standards. For purposes of this subpart, a request for an extension shall be submitted to the permitting authority as part of the operating permit application, or to the Administrator as a separate submittal, or as part of the Precompliance Report. Requests for extensions shall be submitted no later than 120 days prior to the compliance dates specified in paragraphs (b) through (d) of this section, or as specified elsewhere in this subpart. The dates specified in § 63.6(i) for submittal of requests for extensions shall not apply to this subpart.

* * * * *

(h) [Reserved]

9. Section 63.1423 is amended by adding in alphabetical order the terms oil-water separator or organic-water separator and responsible official in paragraph (a) and by revising the definitions of epoxide, equipment leak, Group 2 wastewater stream, and polyether polyol in paragraph (b) as follows:

§ 63.1423 Definitions.

(a) * * *

Oil-water separator or organic-water separator (subpart G)

* * * * *

Responsible official (subpart A)

* * * * *

(b) * * *

Epoxide means a chemical compound consisting of a three-membered cyclic ether. Only emissions of epoxides listed in Table 4 of this subpart (i.e., ethylene oxide, propylene oxide, and epichlorohydrin) are regulated by the provisions of this subpart.

Equipment leak means emissions of organic HAP from a connector, pump, compressor, agitator, pressure relief device, sampling connection system, open-ended valve or line, valve, surge control vessel, bottoms receiver, or instrumentation system in organic HAP service.

* * * * *

Group 2 wastewater stream means any process wastewater stream at an existing affected source or new affected source that does not meet the definition (in this section) of a Group 1 wastewater stream.

* * * * *

Polyether polyol means a compound formed through the polymerization of EO or PO or other cyclic ethers with compounds having one or more reactive hydrogens (i.e., a hydrogen atom bonded to nitrogen, oxygen, phosphorus, sulfur, etc.) to form polyethers (i.e., compounds with two or more ether bonds). This definition of polyether polyol excludes cellulose ethers (such as methyl cellulose, carboxymethyl cellulose, hydroxyethyl cellulose, hydroxy ethyl cellulose, and hydroxypropyl methyl cellulose) and materials regulated under 40 CFR part 63, subparts F, G, and H (the HON), such as glycols and glycol ethers.

* * * * *

10. Section 63.1426 is amended by:

a. Revising Equation 1 (in paragraph (c)(3)(i)(B)(3)(i));

b. Revising Equation 2 (in paragraph (c)(3)(ii)(A));

c. Revising Equations 4 and 5 (in paragraph (c)(5)(ii)(A));

d. Revising paragraph (d)(3)(ii); and

e. Revising Equation 7 in paragraph (e)(1).

The revisions read as follows:

§ 63.1426 Process vent requirements for determining organic HAP concentration, control efficiency, and HAP emission reduction for a PMPU.

* * * * *

(c) * * *

(3) * * *

(i) * * *

(B) * * *

(3) * * *

(i) * * *

* * * * *

(ii) * * *

(A) * * *

* * * * *

(5) * * *

(ii) * * *

(A) * * *

* * * * *

(d) * * *

(2) * * *

(3) * * *

(ii) The owner or operator shall determine the hourly uncontrolled organic HAP emissions from each process vent from a continuous unit operation in accordance with paragraph (c)(5)(ii) of this section, except that the emission rate shall be determined at the location specified in paragraph (d)(3)(i) of this section.

* * * * *

11. Section 63.1427 is amended:

a. By revising paragraph (e)(1) and Equation 10;

b. By revising Equation 13 in paragraph (h);

c. By revising paragraph (j)(2)(iii); and

d. By removing and reserving paragraph (j)(2)(iv).

The revisions read as follows:

§ 63.1427 Process vent requirements for processes using extended cookout as an epoxide emission reduction technique.

* * * * *

(e) * * *

(1) The owner or operator shall determine the percent epoxide emission reduction for the batch cycle using Equation 10.

Where:

Rbatchcycle = Epoxide emission reduction for the batch cycle, percent.

Ee,E = Epoxide emissions at the end of the ECO determined in accordance with paragraph (d)(1) of this section, kilograms.

Raddon,i = Control efficiency of combustion, recovery, or recapture device that is used to control epoxide emissions after the ECO, determined in accordance with the provisions of § 63.1426(c), percent.

Ee,o = Epoxide emissions that occur before the end of the ECO, determined in accordance with the provisions of § 63.1426(d), kilograms.

Raddon,j = Control efficiency of combustion, recovery, or recapture device that is used to control epoxide emissions that occur before the end of the ECO, determined in accordance with the provisions of § 63.1426(c), percent.

Ee,u = Uncontrolled epoxide emissions determined in accordance with paragraph (c)(1) of this section, kilograms.

* * * * *

(h) * * *

Where:

Phalf1 = Half the total pressure of the epoxide for product 1.

Time (Phalf1) = Time when the pressure has fallen to half its total pressure for product 1.

Phalf2 = Half the total pressure of the epoxide for product 2.

Time (Phalf2) = Time when the pressure has fallen to half its total pressure for product 2.

TAVG = The average time to cookout to the point where the epoxide pressure is 25 percent of the epoxide pressure at the end of the feed step for products 1 and 2.

* * * * *

(j) * * *

(2) * * *

(iii) If a combustion, recovery, or recapture device is used to reduce emission in conjunction with ECO, the owner or operator shall record the information specified in § 63.1430(d) and comply with the monitoring provisions in § 63.1429.

* * * * *

12. Section 63.1428 is amended by revising paragraph (g)(3)(i) as follows:

§ 63.1428 Process vent requirements for group determination of PMPUs using a nonepoxide organic HAP to make or modify the product.

* * * * *

(g) * * *

(3) * * *

(i) If the redetermination described in paragraph (g)(2) of this section indicates that the group status of the combination of process vents from batch unit operations in a PMPU that are associated with the use of nonepoxide organic HAP to make or modify the product changes from Group 2 to Group 1 as a result of the process change, the owner or operator shall submit a report as specified in § 63.1439(e)(6)(iii)(D)(1) and shall comply with Group 1 combination of batch process vents provisions in this subpart, as specified in § 63.1425(c)(1).

* * * * *

13. Section 63.1430 is amended by revising paragraphs (e)(1)(vi) and (vii) as follows:

§ 63.1430 Process vent reporting and recordkeeping requirements.

* * * * *

(e) * * *

(1) * * *

(vi) If the combination of all process vents from batch unit operations associated with the use of an organic HAP to make or modify the product is subject to the Group 1 batch process vent control requirements for nonepoxide HAP emissions from making or modifying the product in § 63.1425((c)(1), none of the records in paragraphs (e)(1)(i) through (v) of this section are required.

(vii) If the total annual emissions from the combination of process vents from batch unit operations associated with the use of an organic HAP to make or modify the product are less than 11,800 kg per year, only the records in paragraphs (e)(1)(i) and (ii) of this section are required.

* * * * *

14. Section 63.1432 is amended by revising paragraphs (h), (l), and (q) as follows:

§ 63.1432 Storage vessel provisions.

* * * * *

(h) When the HON storage vessel requirements in §§ 63.120(d)(3)(i), 63.120(d)(5), and 63.122(g)(2) use the term “range,” the term “level” shall apply instead for the purposes of this subpart.

* * * * *

(l) When the HON Periodic Report requirements contained in § 63.152(c) are referred to in §§ 63.120 and 63.122, the Periodic Report requirements contained in § 63.1439(e)(6) shall apply for the purposes of this subpart.

* * * * *

(q) In addition to the records required by § 63.123, the owner or operator of each storage vessel that is complying with § 63.119(e) and that has an applicable monitoring plan in accordance with § 63.120(d)(2) that does not specify continuous monitoring, shall maintain records of all times when the storage tank is being filled (i.e., when the liquid level in the storage vessel is being raised). These records shall consist of documentation of the time when each filling period begins and ends.

15. Section 63.1433 is amended by:

a. Revising paragraph (a)(1);

b. Revising paragraph (a)(2);

c. Revising paragraph (a)(5);

d. Revising paragraph (a)(7);

e. Revising paragraph (a)(8); and

f. Revising paragraph (b)(1).

The revisions and additions read as follows:

§ 63.1433 Wastewater provisions.

(a) * * *

(1) Owners and operators of affected sources are not required to comply with the HON new source wastewater requirements in § 63.132(b)(1) and § 63.132(d) for the purposes of this subpart. Owners or operators of all new affected sources, as defined in this subpart, shall comply with the HON requirements for existing sources in §§ 63.132 through 63.149, with the exceptions noted in paragraphs (a)(2) through (20) of this section.

(2) The provisions of paragraphs (a)(2)(i), (ii), and (a)(10)(iii) of this section clarify the organic HAP that an owner or operator shall consider when complying with the requirements of §§ 63.132 through 63.149.

(i) Owners and operators are exempt from all requirements in §§ 63.132 through 63.149 that pertain solely and exclusively to organic HAP listed on Table 8 of 40 CFR part 63, subpart G.

(ii) When the HON requirements in §§ 63.132 through 63.149 refer to Table 9 compounds, the owner or operator is only required to consider compounds that meet the definition of organic HAP in § 63.1423 and that are listed in Table 9 of 40 CFR part 63, subpart G, for the purposes of this subpart.

(iii) When §§ 63.132 through 63.149 refer to compounds in Table 36 of 40 CFR part 63, subpart G, or compounds in List 1 or List 2 of Table 36 of 40 CFR part 63, subpart G, the owner or operator is only required to consider compounds that meet the definition of organic HAP in § 63.1423 and that are listed on Table 36 of 40 CFR part 63, subpart G, for the purposes of this subpart.

* * * * *

(5) When the HON process wastewater reporting requirements in § 63.146(a) require the submission of a request for approval to monitor alternative parameters according to the procedures specified in § 63.151(f) or (g), the owner or operator requesting to monitor alternative parameters shall follow the procedures specified in § 63.1439(f) for the purposes of this subpart.

* * * * *

(7) When §§ 63.132 through 63.149 refer to an “existing source,” the term existing affected source, as defined in § 63.1420(a)(2), shall apply for the purposes of this subpart.

(8) When the HON requirements in §§ 63.132 through 63.149 refer to a “new source,” the term new affected source, as defined in § 63.1420(a)(3), shall apply for the purposes of this subpart.

* * * * *

(b) * * *

(1) When the HON maintenance wastewater provisions in § 63.105(a) refer to “organic HAPs listed in Table 9 of subpart G of this part,” the owner or operator is only required to consider compounds that meet the definition of organic HAP in § 63.1423 and that are listed in Table 9 of 40 CFR part 63, subpart G, for the purposes of this subpart.

* * * * *

16. Section 63.1434 is amended by removing and reserving paragraph (c).

17. Section 63.1435 is amended by revising paragraph (c) as follows:

§ 63.1435 Heat exchanger provisions.

* * * * *

(c) When the HON heat exchange system requirements in § 63.104(c)(3) specify the monitoring plan retention requirements, and when § 63.104(f)(1) refers to the record retention requirements in § 63.103(c)(1), the provisions of the general recordkeeping and reporting requirements in § 63.1439(a) and the applicable provisions of the General Provisions in 40 CFR part 63, subpart A, as specified in Table 1 of this subpart, shall apply for the purposes of this subpart.

* * * * *

18. Section 63.1437 is amended by revising paragraph (a)(1) introductory text as follows:

§ 63.1437 Additional requirements for performance testing.

(a) * * *

(1) Performance tests shall be conducted according to the general provisions' performance testing requirements in § 63.7(e)(1) and (2), except that for all emission sources except process vents from batch unit operations, performance tests shall be conducted during maximum representative operating conditions for the process achievable during one of the time periods described in paragraph (a)(1)(i) of this section, without causing any of the situations described in paragraph (a)(1)(ii) or (iii) of this section to occur. For process vents from batch unit operations, performance tests shall be conducted either at absolute worst-case conditions or hypothetical worst-case conditions, as defined in § 63.1426(c)(3)(i)(B), that are achievable during one of the time periods described in paragraph (a)(1)(i) of this section, without causing any of the situations described in paragraph (a)(1)(ii) or (iii) of this section to occur.

* * * * *

19. Section 63.1439 is amended by:

a. Revising paragraph (b)(1)(ii);

b. Revising paragraph (e)(3) introductory text;

c. Removing and reserving paragraph (e)(3)(ii)(A);

d. Revising paragraph (e)(5)(iv); and

e. Revising paragraph (e)(7).

The revisions read as follows:

§ 63.1439 General recordkeeping and reporting provisions.

* * * * *

(b) * * *

(1) * * *

(ii) Reports of start-up, shutdown, and malfunction. For the purposes of this subpart, the semiannual start-up, shutdown, and malfunction reports shall be submitted on the same schedule as the Periodic Reports required under paragraph (e)(6) of this section instead of according to the general provisions' Periodic Reporting schedule specified in § 63.10(d)(5)(i). The reports shall include the information specified in § 63.10(d)(5)(i).

* * * * *

(e) * * *

(3) Initial Notification. The owner or operator of a new affected source shall submit a written Initial Notification to the Administrator containing the information described in paragraph (e)(3)(i) of this section according to the schedule in paragraph (e)(3)(ii) of this section. The General Provisions' Initial Notification requirements in § 63.9(b)(2), (3), and (6) shall not apply for the purposes of this subpart.

* * * * *

(5) * * *

(iv) The parameter monitoring levels for flexible operation units, and the basis on which these levels were selected, or a demonstration that these levels are appropriate at all times, as specified in § 63.1420(e)(5)(ii)(A).

* * * * *

(7) Other reports. Other reports shall be submitted as specified in paragraphs (e)(7)(i) through (iii) of this section.

(i) For storage vessels, the notifications of inspections required by § 63.1432 shall be submitted, as specified in the HON storage vessel provisions in § 63.122(h)(1) and (2).

(ii) When the conditions at § 63.1420(e)(3)(iii), (e)(9), or (e)(10) are met, reports of changes to the primary product for a PMPU or process unit, as required by § 63.1420(e)(3)(iii), (e)(9), or (e)(10)(iii), respectively, shall be submitted.

(iii) Owners or operators of PMPU or emission points (other than equipment leak components subject to § 63.1434) that are subject to provisions for changes or additions to plant sites in § 63.1420(g)(1) or (2) shall submit a report as specified in paragraphs (e)(7)(iii)(A) and (B) of this section.

(A) Reports shall include:

(1) A description of the process change or addition, as appropriate;

(2) The planned start-up date and the appropriate compliance date, according to § 63.1420(g)(1) or (2); and

(3) Identification of the group status of emission points (except equipment leak components subject to the requirements in § 63.1434) specified in paragraphs (e)(7)(iii)(A)(3)(i) through (iii) of this section, as applicable.

(i) All the emission points in the added PMPU, as described in § 63.1420(g)(1).

(ii) All the emission points in an affected source designated as a new affected source under § 63.1420(g)(2)(i).

(iii) All the added or created emission points as described in § 63.1420(g)(2)(ii) or (iii).

(4) If the owner or operator wishes to request approval to use alternative monitoring parameters, alternative continuous monitoring or recordkeeping, alternative controls, or wishes to establish parameter monitoring levels according to the procedures contained in § 63.1438(c) or (d), a Precompliance Report shall be submitted in accordance with paragraph (e)(7)(iii)(B) of this section.

(B) Reports shall be submitted as specified in paragraphs (e)(7)(iii)(B)(1) through (3) of this section, as appropriate.

(1) Owners or operators of an added PMPU subject to § 63.1420(g)(1) shall submit a report no later than 180 days prior to the compliance date for the PMPU.

(2) Owners or operators of an affected source designated as a new affected source under § 63.1420(g)(2)(i) shall submit a report no later than 180 days prior to the compliance date for the affected source.

(3) Owners and operators of any emission point (other than equipment leak components subject to § 63.1434) subject to § 63.1420(g)(2)(ii) or (iii) shall submit a report no later than 180 days prior to the compliance date for those emission points.

* * * * *

20. Tables 1, 4, and 8 to subpart PPP of part 63 are revised as follows:

Table 1 of Subpart PPP.—Applicability of General Provisions to Subpart PPP Affected Sources
Reference | Applies to subpart PPP | Explanation
63.1(a)(1) | Yes | § 63.1423 specifies definitions in addition to or that supersede definitions in § 63.2.
63.1(a)(2) | Yes. |
63.1(a)(3) | Yes | § 63.1422(f) through (k) of this subpart and § 63.160(b) identify those standards which overlap with the requirements of subparts PPP and H and specify how compliance shall be achieved.
63.1(a)(4) | Yes | Subpart PPP (this table) specifies the applicability of each paragraph in subpart A to subpart PPP.
63.1(a)(5) | No | Reserved.
63.1(a)(6)-(8) | Yes. |
63.1(a)(9) | No. | Reserved.
63.1(a)(10) | Yes. |
63.1(a)(11) | Yes. |
63.1(a)(12)-(14) | Yes. |
63.1(b)(1) | No | § 63.1420(a) contains specific applicability criteria.
63.1(b)(2) | Yes. |
63.1(b)(3) | Yes. |
63.1(c)(1) | Yes | Subpart PPP (this table) specifies the applicability of each paragraph in subpart A to subpart PPP.
63.1(c)(2) | No | Area sources are not subject to subpart PPP.
63.1(c)(3) | No | Reserved.
63.1(c)(4) | Yes. |
63.1(c)(5) | Yes | Except that affected sources are not required to submit notifications overridden by this table.
63.1(d) | No | Reserved.
63.1(e) | Yes. |
63.2 | Yes | § 63.1423 specifies those subpart A definitions that apply to subpart PPP.
63.3 | Yes. |
63.4(a)(1)-(3) | Yes. |
63.4(a)(4) | No | Reserved.
63.4(a)(5) | Yes. |
63.4(b) | Yes. |
63.4(c) | Yes. |
63.5(a)(1) | Yes | Except the terms “source” and “stationary source” should be interpreted as having the same meaning as “affected source.”
63.5(a)(2) | Yes. |
63.5(b)(1) | Yes | Except § 63.1420(g) defines when construction or reconstruction is subject to new source standards.
63.5(b)(2) | No | Reserved.
63.5(b)(3) | Yes. |
63.5(b)(4) | Yes | Except that the initial notification requirements in § 63.1439(e)(3) shall apply instead of the requirements in § 63.9(b).
63.5(b)(5) | Yes. |
63.5(b)(6) | Yes | Except that § 63.1420(g) defines when construction or reconstruction is subject to the new source standards.
63.5(c) | No | Reserved.
63.5(d)(1)(i) | Yes. |
63.5(d)(1)(ii) | Yes | Except that § 63.5(d)(1)(ii)(H) does not apply.
63.5(d)(1)(iii) | No | § 63.1439(e)(5) and § 63.1434(e) specify notification of compliance status requirements.
63.5(d)(2) | No. |
63.5(d)(3) | Yes | Except § 63.5(d)(3)(ii) does not apply, and equipment leaks subject to § 63.1434 are exempt.
63.5(d)(4) | Yes. |
63.5(e) | Yes. |
63.5(f)(1) | Yes. |
63.5(f)(2) | Yes | Except that where § 63.9(b)(2) is referred to, the owner or operator need not comply.
63.6(a) | Yes. |
63.6(b)(1) | Yes. |
63.6(b)(2) | Yes. |
63.6(b)(3) | Yes. |
63.6(b)(4) | Yes. |
63.6(b)(5) | Yes. |
63.6(b)(6) | No | Reserved.
63.6(b)(7) | No. |
63.6(c)(1) | Yes | § 63.1422 specifies the compliance date.
63.6(c)(2) | No. |
63.6(c)(3) | No | Reserved.
63.6(c)(4) | No | Reserved.
63.6(c)(5) | Yes. |
63.6(d) | No | Reserved.
63.6(e) | Yes | Except as otherwise specified for individual paragraphs (below), and § 63.6(e) does not apply to Group 2 emission points.
63.6(e)(1)(i) | No | This is addressed by § 63.1420(h)(4).
63.6(e)(1)(ii) | Yes. |
63.6(e)(1)(iii) | Yes. |
63.6(e)(2) | Yes. |
63.6(e)(3)(i) | Yes | For equipment leaks (subject to § 63.1434), the start-up, shutdown, and malfunction plan requirement of § 63.6(e)(3)(i) is limited to combustion, recovery, or recapture devices and is optional for other equipment. The start-up, shutdown, and malfunction plan may include written procedures that identify conditions that justify a delay of repair.ᵃ
63.6(e)(3)(i)(A) | Yes | This is also addressed by § 63.1420(h)(4).
63.6(e)(3)(i)(B) | Yes. |
63.6(e)(3)(i)(C) | Yes. |
63.6(e)(3)(ii) | Yes. |
63.6(e)(3)(iii) | No | Recordkeeping and reporting are specified in § 63.1439(b)(1).
63.6(e)(3)(iv) | No | Recordkeeping and reporting are specified in § 63.1439(b)(1).
63.6(e)(3)(v) | No | Requirement is specified in § 63.1439(b)(1).
63.6(e)(3)(vi) | Yes. |
63.6(e)(3)(vii) | Yes. |
63.6(e)(3)(vii) (A) | Yes. |
63.6(e)(3)(vii) (B) | Yes | Except the plan shall provide for operation in compliance with § 63.1420(i)(4).
63.6(e)(3)(vii) (C) | Yes. |
63.6(e)(3)(viii) | Yes. |
63.6(f)(1) | Yes. |
63.6(f)(2) | Yes | Except 63.7(c), as referred to in § 63.6(f)(2)(iii)(D) does not apply, and except that § 63.6(f)(2)(ii) does not apply to equipment leaks subject to § 63.1434.
63.6(f)(3) | Yes. |
63.6(g) | Yes. |
63.6(h) | No | Subpart PPP does not require opacity and visible emission standards.
63.6(i)(1) | Yes. |
63.6(i)(2) | Yes. |
63.6(i)(3) | Yes. |
63.6(i)(4)(i)(A) | Yes. |
63.6(i)(4)(i)(B) | No | Dates are specified in § 63.1422(e) and § 63.1439(e)(4)(i) for all emission points except equipment leaks, which are covered under § 63.182(a)(6)(i).
63.6(i)(4)(ii) | No. |
63.6(i)(5)-(14) | Yes. |
63.6(i)(15) | No | Reserved.
63.6(i)(16) | Yes. |
63.6(j) | Yes. |
63.7(a)(1) | Yes. |
63.7(a)(2) | No | § 63.1439(e) (5) and (6) specify the submittal dates of performance test results for all emission points except equipment leaks; for equipment leaks, compliance demonstration results are reported in the Periodic Reports.
63.7(a)(3) | Yes. |
63.7(b) | No | § 63.1437(a)(4) specifies notification requirements.
63.7(c) | No | Except if the owner or operator chooses to submit an alternative nonopacity emission standard for approval under § 63.6(g).
63.7(d) | Yes. |
63.7(e)(1) | Yes | Except that all performance tests shall be conducted during worst case operating conditions.
63.7(e)(2) | Yes. |
63.7(e)(3) | No | Subpart PPP specifies requirements.
63.7(e)(4) | Yes. |
63.7(f) | Yes | Since a site-specific test plan is not required, the notification deadline in § 63.7(f)(2)(i) shall be 60 days prior to the performance test, and in § 63.7(f)(3) approval or disapproval of the alternative test method shall not be tied to the site-specific test plan.
63.7(g) | Yes | Except the notification of compliance status report requirements in § 63.1439(e)(5) shall apply instead of those in § 63.9(h). In addition, equipment leaks subject to § 63.1434 are not required to conduct performance tests.
63.7(h) | Yes | Except § 63.7(h)(4)(ii) is not applicable, since the site-specific test plans in § 63.7(c)(2) are not required.
63.8(a)(1) | Yes. |
63.8(a)(2) | No. |
63.8(a)(3) | No | Reserved.
63.8(a)(4) | Yes. |
63.8(b)(1) | Yes. |
63.8(b)(2) | No | Subpart PPP specifies locations to conduct monitoring.
63.8(b)(3) | Yes. |
63.8(c)(1) | Yes. |
63.8(c)(1)(i) | Yes. |
63.8(c)(1)(ii) | No | For all emission points except equipment leaks, comply with § 63.1439(b)(1)(i)(B); for equipment leaks, comply with § 63.181(g)(2)(ii).
63.8(c)(1)(iii) | Yes. |
63.8(c)(2) | Yes. |
63.8(c)(3) | Yes. |
63.8(c)(4) | No | § 63.1438 specifies monitoring requirements; not applicable to equipment leaks, because § 63.1434 does not require continuous monitoring systems.
63.8(c)(5)-(8) | No. |
63.8(d) | No. |
63.8(e) | No. |
63.8(f)(1)-(3) | Yes. |
63.8(f)(4)(i) | Yes | Except the timeframe for submitting request is specified in § 63.1439(f) or (g); not applicable to equipment leaks, because § 63.1434 (through subpart H of this part) specifies acceptable alternative methods.
63.8(f)(4)(ii) | Yes. |
63.8(f)(4)(iii) | Yes. |
63.8(f)(5)(i) | Yes. |
63.8(f)(5)(ii) | No. |
63.8(f)(5)(iii) | Yes. |
63.8(f)(6) | No | Subpart PPP does not require CEMs.
63.8(g) | No | Data reduction procedures specified in § 63.1439(d) and (h); not applicable to equipment leaks.
63.9(a) | Yes. |
63.9(b) | No | The initial notification requirements are specified in § 63.1439(e)(3).
63.9(c) | Yes. |
63.9(d) | Yes. |
63.9(e) | No | § 63.1437(a)(4) specifies notification deadline.
63.9(f) | No | Subpart PPP does not require opacity and visible emission standards.
63.9(g) | No. |
63.9(h) | No | § 63.1439(e)(5) specifies notification of compliance status requirements.
63.9(i) | Yes. |
63.9(j) | No. |
63.10(a) | Yes. |
63.10(b)(1) | No | § 63.1439(a) specifies record retention requirements.
63.10(b)(2) | No | Subpart PPP specifies recordkeeping requirements.
63.10(b)(3) | Yes. |
63.10(c) | No | § 63.1439 specifies recordkeeping requirements.
63.10(d)(1) | Yes. |
63.10(d)(2) | No | § 63.1439(e)(5) and (6) specify performance test reporting requirements; not applicable to equipment leaks.
63.10(d)(3) | No | Subpart PPP does not require opacity and visible emission standards.
63.10(d)(4) | Yes. |
63.10(d)(5)(i) | Yes | Except that reports required by § 63.10(d)(5)(i) shall be submitted at the same time as Periodic Reports specified in § 63.1439(e)(6). The start-up, shutdown, and malfunction plan, and any records or reports of start-up, shutdown, and malfunction do not apply to Group 2 emission points.
63.10(d)(5)(ii) | No. |
63.10(e) | No | § 63.1439 specifies reporting requirements.
63.10(f) | Yes. |
63.11 | Yes. |
63.12 | Yes | Except that the authority of § 63.177 (for equipment leaks) will not be delegated to States.
63.13-63.15 | Yes. |
ᵃ The plan, and any records or reports of start-up, shutdown, and malfunction do not apply to Group 2 emission points.

* * * * *

Table 4 of Subpart PPP.—Known Organic HAP From Polyether Polyol Products
Organic HAP/chemical name [CAS No.]
1,3 Butadiene
(106990)
Epichlorohydrin
(106898)
Ethylene Oxide
(75218)
n-Hexane
(110543)
Methanol
(67561)
Propylene Oxide
(75569)
Toluene
(108883)
CAS No. = Chemical Abstracts Service Registry Number.

* * * * *

Table 8 to Subpart PPP.—Routine Reports Required by This Subpart
Reference | Description of report | Due date
§ 63.1439(b) and subpart A of this part | Refer to § 63.1439(b), Table 1 of this subpart, and to subpart A of this part | Refer to subpart A of this part.
§ 63.1439(e)(3) | Initial notification | New affected sources w/ initial start-up at least 90 days after June 1, 1999: submit the application for approval of construction or reconstruction in lieu of the initial notification report. New affected sources w/ initial start-up prior to 90 days after June 1, 1999:by 90 days after June 1, 1999.
§ 63.1439(e)(4) | Precompliance Report ᵃ | Existing affected sources: 12 months prior to compliance date. New affected sources: with the application for approval of construction or reconstruction.
§ 63.1439(e)(5) | Notification of Compliance Status ᵇ | Within 150 days after the compliance date.
§ 63.1439(e)(6) | Periodic Reports | Semiannually, no later than 60 days after the end of each 6-month period. See § 63.1439(e)(6)(i) for the due date for this report.
§ 63.1439(e)(6)(iii) | Quarterly reports for sources with excursions (upon request of the Administrator) | No later than 60 days after the end of each quarter.
§ 63.506(e)(7)(i) | Storage Vessels Notification of Inspection | At least 30 days prior to the refilling of each storage vessel or the inspection of each storage vessel.
ᵃ There may be two versions of this report due at different times; one for equipment subject to § 63.1434 and one for other emission points subject to this subpart.
ᵇ There will be two versions of this report due at different times; one for equipment subject to § 63.1434 and one for other emission points subject to this subpart.

* * * * *

[FR Doc. 00-10418 Filed 5-5-00; 8:45 am]

BILLING CODE 6560-50-P